DEPARTMENT OF HEALTH AND HUMAN SERVICES

Health Resources and Services Administration

Program Support Center; Statement of Organization, Functions and Delegations of Authority

Part P, Program Support Center (PSC) of the Statement of Organization, Functions, and Delegations of Authority for the Department of Health and Human Services (HHS), as last amended at 60 FR 51480 dated October 2, 1995, and 66 FR 31240-41 dated June 11, 2001; and Part R, Health Resources and Services Administration (HRSA), Bureau of Primary Health Care (RC), Division of Federal Occupational Health (RCB) of the Statement of Organization, Functions, and Delegations of Authority of HHS as last amended at 60 FR 56605 dated November 6, 1995, are being amended to reflect the transfer of the Division of Federal Occupational Health from HRSA to the PSC as the Federal Occupational Health Service (FOHS). The FOHS will be headed by a Director who will report to the Director, Program Support Center.

The changes are as follows:

I. Under Part R, Health Resources and Services Administration make the following changes:

A. Delete the Bureau of Primary Health Care (RC) in its entirety and replace with the following:

Bureau of Primary Health Care (RC): Serves as a national focus for efforts to assure the availability and delivery of health care services in medically underserved areas and to special service populations. To this end, the Bureau, through its Field staffs: (1) Assists States through program and clinical efforts to provide health care to underserved populations; (2) administers the Community Health Centers Program; (3) provides through project grants to State, local, voluntary, public and private entities, funds to help them meet the health needs of special populations such as migrants, the homeless, substance abuse problems, and victims of black lung disease; (4) provides leadership and direction for the Bureau of Prisons Medical Program, the National Hansen's Disease Program, the Coast Guard Medical Program CHAMPUS Program, and the Cuban and Haitian Refugee Program; and (5) administers the National or Health Service Corps Program which assures accessibility of health care in underserved areas.

B. Delete the Division of Federal Occupational Health (RCB) in its entirety.

II. Under Part B, Program Support Center, make the following changes:

1. Under Section P-10 Organization, add the following line: “6. Federal Occupational Health service.”

II. Under Chapter P-20 Functions, add the following new clause: “(7) provides occupational and environmental health services.”

III. Under Section P-20 Functions, add Chapter “PG” to establish the “Federal Occupational Health Service (PG),” to read as follows:

Federal Occupational Health Service (PG): (1) Provides consultation on, and stimulates the development of, improved occupational health and safety programs throughout the Federal Government; (2) provides evaluation, consultation, and direction to Federal managers concerning the management and delivery of the full scope of agency occupational health programs in relation to established standards; (3) provides nationwide assistance in planning, implementing and monitoring health programs for Federal agencies on a reimbursable basis including improved environmental, education, promotional, clinical and managerial services and the development and incorporation of automated information management systems; (4) conducts research studies, science and engineering ventures, training, and demonstration projects; (5) develops occupational health standards and criteria for occupational health programs; (6) conducts activities designed to promote productivity and reduce absenteeism, lost time and related liability within the Federal work force; (7) provides mechanisms for the development and operation of shared services that promote joint contracting, cost comparison, analysis and program formulation; (8) plans, develops, implements, and operates occupational health programs, including Employee Assistance Programs (EAPs), fitness and wellness, environmental surveillance, medical monitoring, and disability management components; and (9) maintains relationships with health officials in other Federal and occupational health related policy and program development and implementation.

IV. Continuation of Policy: Except as inconsistent with this reorganization, all statements of policy and interpretations with respect to the Health Resources and Services Administration and the Program Support Center that relate to this reorganization heretofore issued and in effect prior to this reorganization continue in full force and effect.

V. Delegations of Authority: All delegations and redelegations of authority made to officials and employees of affected organization components will continue in them or their successors pending further redelegation, provided they are consistent with this reorganization.

VI. Funds, Personnel, and Equipment: Transfer of organizations and functions affected by this reorganization shall be accompanied by direct and support funds, positions, personnel, records, equipment, supplies and other resources.

This reorganization is effective upon date of signature.

Dated: July 3, 2001.
Tommy G. Thompson,
Secretary.

[FR Doc. 01-17213 Filed 7-9-01; 8:45 am]

BILLING CODE 4168-17-M